DEPARTMENT OF COMMERCE

National Oceanic and Atmospheric Administration

Proposed Information Collection; Comment Request; Assessing Institutional Designs for Managing Water Supply To Support Salmon Recovery in Washington State

AGENCY: National Oceanic and Atmospheric Administration (NOAA), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 23, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Karma Norman, 206-302-2418 or Karma.Norman@noaa.gov.

SUPPLEMENTARY INFORMATION:

I. Abstract

The Northwest Fisheries Science Center is responsible for research to support recovery planning for Pacific salmon listed under the Endangered Species Act. Fisheries scientists have identified a number of critical habitat features necessary for the recovery of Pacific salmon in Washington State. One of the most important of these habitat elements is ensuring sufficient flows of freshwater for fish passage, spawning, and rearing.

Washington State, in consultation with federal, local, and tribal government partners, has begun establishing in-stream flow rules for a number of watersheds in the state. The new measures that ensure sufficient freshwater flows for salmon have begun implementation across Water Resource Inventory Areas (WRIAs). However, little is understood about the institutional arrangements (laws, policies, and organizational structures) needed to successfully implement the habitat management activities necessary for salmon recovery.

Thus far, research on this topic has focused primarily on watershed planning, rather than on organizational structures or the implementation on water supply rules, controls and agreements. This study will complement these inquiries by examining the institutional design of programs to support salmon recovery. The results from this study will highlight the institutional features that are associated with the effective implementation of water supply control measures. This data will be used to develop a preliminary set of indicators that may help predict the likely success of efforts to implement water supply controls across Washington State.

II. Method of Collection

Secondary sources will be used to collect the information, such as literature reviews, planning documents, Internet sources, and U.S. Census data. Internet surveys and in-person interviews with key informants, as determined by initial secondary data and analysis, will be utilized to obtain information from original sources to develop the broadest scope of information possible.

III. Data

OMB Number: None.

Form Number: None.

Type of Review: Regular submission.

Affected Public: Individuals or households; not-for-profit institutions; State or Local government, Federal government.

Estimated Number of Respondents: 496 (8 individuals for each of the 62 WRIAs in the state of Washington).

Estimated Time per Response: 20 minutes.

Estimated Total Annual Burden Hours: 165.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 16, 2007.
Gwellnar Banks,
Management Analyst, Office of the Chief Information Officer.

[FR Doc. E7-9767 Filed 5-21-07; 8:45 am]

BILLING CODE 3510-22-P